EQUAL EMPLOYMENT OPPORTUNITY COMMISSION

29 CFR Part 1630

Regulations To Implement the Equal Employment Provisions of the Americans With Disabilities Act

CFR Correction

In Title 29 of the Code of Federal Regulations, Parts 900 to 1899, revised as of July 1, 2013, on page 397, in the Appendix to Part 1630, under Section 1630.2(o), after the third paragraph, the following paragraph is reinstated:

Appendix to Part 1630—Interpretive Guidance on Title I of the Americans With Disabilities Act

* * * * *

Section 1630.2(o) Reasonable Accommodation

* * * * *

Part 1630 lists the examples, specified in title I of the ADA, of the most common types of accommodation that an employer or other covered entity may be required to provide. There are any number of other specific accommodations that may be appropriate for particular situations but are not specifically mentioned in this listing. This listing is not intended to be exhaustive of accommodation possibilities. For example, other accommodations could include permitting the use of accrued paid leave or providing additional unpaid leave for necessary treatment, making employer provided transportation accessible, and providing reserved parking spaces. Providing personal assistants, such as a page turner for an employee with no hands or a travel attendant to act as a sighted guide to assist a blind employee on occasional business trips, may also be a reasonable accommodation. Senate Report at 31; House Labor Report at 62; House Judiciary Report at 39.

* * * * *

[FR Doc. 2014-01850 Filed 1-28-14; 8:45 am]

BILLING CODE 1505-01-D